DEPARTMENT OF COMMERCE

National Oceanic and Atmospheric Administration

Availability of Seats for Olympic Coast National Marine Sanctuary Advisory Council

AGENCY: Office of National Marine Sanctuaries (ONMS), National Ocean Service (NOS), National Oceanic and Atmospheric Administration (NOAA), Department of Commerce (DOC).

ACTION: Notice and request for applications.

SUMMARY: The ONMS is seeking applications for the following vacant seats on the Olympic Coast National Marine Sanctuary Advisory Council: Research; Chamber of Commerce/Tourism/Recreation; Marine Business/Ports/Industry; Conservation; Commercial Fishing (alternate position only). Applicants are chosen based upon their particular expertise and experience in relation to the seat for which they are applying; community and professional affiliations; philosophy regarding the protection and management of marine resources; and possibly the length of residence in the area affected by the sanctuary. Applicants who are chosen as members should expect to serve three-year terms, pursuant to the council's charter.

DATES: Applications are due by Friday, December 2, 2011.

ADDRESSES: Application kits may be obtained from Norma Klein, Olympic Coast National Marine Sanctuary, 115 East Railroad Ave., Suite 301, Port Angeles, WA 98362 (norma.klein@noaa.gov). Completed applications should be sent via mail or email to the same address.

FOR FURTHER INFORMATION CONTACT: Carol Bernthal, Superintendent, Olympic Coast National Marine Sanctuary, 115 East Railroad Ave., Suite 301, Port Angeles, WA 98362, 360.457.6622 x11, carol.bernthal@noaa.gov or Liam Antrim, Resource Protection Specialist, 360.457.6622 x16, liam.antrim@noaa.gov.

SUPPLEMENTARY INFORMATION: The Olympic Coast National Marine Sanctuary (OCNMS) Advisory Council seats are for a three-year term and have a designated primary member and an alternate. The OCNMS Advisory Council meets bi-monthly in public sessions in communities in and around Olympic Coast National Marine Sanctuary.

The OCNMS Advisory Council was established in December 1998 to assure continued public participation in the management of the sanctuary. Serving in a volunteer capacity, the advisory council's 15 voting members represent a variety of local user groups, as well as the general public. In addition, six Federal government agencies serve as non-voting, ex officio members. Since its establishment, the advisory council has played a vital role in advising OCNMS and NOAA on critical issues. In addition to providing advice on management issues facing the Sanctuary, council members serve as a communication bridge between constituents and OCNMS staff.

Authority: 16 U.S.C. 1431, et seq.

(Federal Domestic Assistance Catalog Number 11.429 Marine Sanctuary Program)

Dated: October 27, 2011.
Daniel J. Basta,
Director, Office of National Marine Sanctuaries, National Ocean Service, National Oceanic and Atmospheric Administration.

[FR Doc. 2011-28480 Filed 11-3-11; 8:45 am]

BILLING CODE 3510-NK-M